DEPARTMENT OF ENERGY

Federal Energy Regulatory Commission

[Docket No. EL05-93-000]

PJM Industrial Customer Coalition, Complainant v. PJM Interconnection, L.L.C. and American Electric Power Service Corporation, Respondents; Notice Requiring Reply

May 26, 2005.

On April 15, 2005, PJM Industrial Customer Coalition (PJMICC) filed a complaint requesting that the Commission direct PJM Interconnection, L.L.C. (PJM) and American Electric Power Service Corporation (AEP) to allow certain PJMICC members located within the AEP service territory to participate in PJM's demand response programs. In its answer to the complaint, AEP asserts that, under PJM's tariff, PJMICC members may be prohibited from participating in PJM's demand response program in AEP's service territory, because relevant state retail tariffs and certain contractual obligations preclude such participation. In its answer, PJM asserts that its tariff recognizes that state or contractual requirements may preclude participation in PJM's demand response programs.

In order to further elucidate the issues raised in AEP's and PJM's answer, notice is hereby given that PJMICC must file a reply to the answers on or before June 10, 2005.

Magalie R. Salas,
Secretary.

[FR Doc. E5-2858 Filed 6-2-05; 8:45 am]

BILLING CODE 6717-01-P